DEPARTMENT OF HEALTH AND HUMAN SERVICES

Public Health Service

National Toxicology Program (NTP); Notice of a Meeting of the NTP Board of Scientific Counselors

Pursuant to Public Law 92-463, notice is hereby given of a meeting of the National Toxicology Program (NTP) Board of Scientific Counselors on June 29, 2004, at the Marriott at Research Triangle Park, 4700 Guardian Drive, Durham, NC 27703.

The NTP Board of Scientific Counselors (“the Board”) is composed of scientists from the public and private sector and provides primary scientific oversight to the NTP.

Agenda and Registration

The meeting on June 29, 2004 begins at 8:30 a.m. and is open to the public from 8:30 a.m. to approximately 3:30 p.m., when it will be closed to the public until adjournment. The closure is in accordance with the provisions set forth in section 552b(c)(4) “disclosure of commercial or financial information,” (c)(6) “disclosure of information of personal nature where disclosure would constitute a clearly unwarranted invasion of personal privacy” and (c)(9) “disclosure of information of a premature nature which would significantly frustrate implementation of a proposed agency action” of Title 5 U.S.C. for the review and evaluation of the Carcinogenic Potency Database.

Attendance at the public meeting will be limited only by the space available. Persons needing special assistance should contact the Executive Secretary (contact information below) at least 7 business days in advance of the meeting.

A draft agenda with a tentative schedule is provided below. Primary agenda topics include: (1) NTP activities for development of a roadmap (or framework) for implementation of the NTP Vision for the 21st Century (http://ntp-server.niehs.nih.gov), (2) report from the Board's Working Group on the review of statistical methods to analyze photocarcinogenicity studies, (3) planned NTP Studies on trimethylolpropane triacrylate (TMPTA), (4) activities of the NTP Board's Technical Reports Review Subcommittee, and (5) an update on the Report on Carcinogens, including the status of the Eleventh Edition, and on the public meeting held January 27, 2004, to receive comment on the review process and criteria used to evaluate nominations to the Report on Carcinogens.

The agenda and background materials on agenda topics, as available, will be posted on the NTP Web site (http://ntp-server.niehs.nih.gov, see What's New) or available upon request to the Executive Secretary (contact information below). Following the meeting, minutes will be prepared and available through the NTP Web site and upon request to Central Data Management, NIEHS, P.O. Box 12233, MD E1-02, Research Triangle Park, NC 27709; telephone: 919-541-3419, fax: 919-541-3687, and e-mail: CDM@niehs.nih.gov.

Public Comments Welcome

Time is allotted during the meeting for the public to present comments to the Board and NTP staff on any agenda topic. This meeting provides another opportunity for the public to provide input to the NTP on its vision and important elements for the roadmap. At least 7 minutes will be allotted to each speaker, and if time permits, may be extended to 10 minutes. Each organization is allowed one time slot per agenda topic. Persons registering to make oral comments are asked to contact Dr. Barbara Shane, NTP Executive Secretary (NIEHS, P.O. Box 12233, MD A3-01, Research Triangle Park, NC 27709; telephone: 919-541-0530; and e-mail: shane@niehs.nih.gov), by June 21, 2004, and provide their name, affiliation, mailing address, phone, fax, e-mail, and sponsoring organization (if any). Individuals will also be able to register to give oral public comments on-site at the meeting. However, if registering on-site and reading from written text, please bring 30 copies of the statement for distribution to the Board and NTP staff and to supplement the record.

Persons may also submit written comments in lieu of making oral comments and these comments should be sent to the Executive Secretary and received by June 21, 2004, to enable review by the Board and NTP staff prior to the meeting. Written comments received in response to this notice will be posted on the NTP Web site along with other meeting information. Persons submitting written comments should include their contact information (name, affiliation, mailing address, phone, fax, e-mail) and sponsoring organization (if any) with the document.

NTP Board of Scientific Counselors

The Board is a federally chartered advisory committee comprised of scientists from the public and private sectors who provide primary scientific oversight to the NTP on its overall program and centers. Specifically, the Board advises the NTP on matters of scientific program content, both present and future, and conducts periodic review of the program for the purposes of determining and advising on the scientific merit of its activities and their overall scientific quality. Its members are selected from recognized authorities knowledgeable in fields, such as toxicology, pharmacology, pathology, biochemistry, epidemiology, risk assessment, carcinogenesis, mutagenesis, molecular biology, behavioral toxicology and neurotoxicology, immunotoxicology, reproductive toxicology or teratology, and biostatistics. The NTP strives for equitable geographic distribution and minority and female representation on the Board. The Secretary of Health and Human Services appoints members to the Board and they are invited to serve overlapping terms of up to four years. Meetings are held once or twice annually for the Board and its two standing subcommittees (the Report on Carcinogens Subcommittee and the Technical Reports Review Subcommittee).

Dated: May 28, 2004.
Samuel H. Wilson,
Deputy Director, National Toxicology Program.

Preliminary Agenda: National Toxicology Program (NTP) Board of Scientific Counselors

June 29, 2004

Marriott at Research Triangle Park, 4700 Guardian Drive, Durham, NC 27703, Hotel Telephone: 919-941-6200.

June 29, 2004

8:30 a.m. Welcome and Opening Comments

NTP Update

NTP Vision for the 21st Century

Working Group Report on Statistical Methods to Analyze Photocarcinogenicity Studies

11:45 a.m. Lunch

1 p.m. Updates

NTP Studies on Trimethylolpropane Triacrylate (TMPTA)

NTP Board's Technical Reports Subcommittee Meeting on February 17-18, 2004

Report on Carcinogens

3:30 p.m. Closed Session*

Review and Evaluation of the Carcinogenic Potency Database

5 p.m. Adjourn

*The closure is in accordance with the provisions set forth in section 552b(c)(4) “disclosure of commercial or financial information,” (c)(6) “disclosure of information of personal nature where disclosure would constitute a clearly unwarranted invasion of personal privacy” and (c)(9) “disclosure of information of a premature nature which would significantly frustrate implementation of a proposed agency action” of Title 5 U.S.C.

[FR Doc. 04-12853 Filed 6-7-04; 8:45 am]

BILLING CODE 4140-01-P